DEPARTMENT OF LABOR

Employment and Training Administration

[TA-W-50,122]

FCI USA, Inc., Communications, Data, and Consumer Division (CDC) Fiber Optics Group, a Member of the Areva Group, Etters, PA; Notice of Termination of Investigation

Pursuant to section 221 of the Trade Act of 1974, as amended, an investigation was initiated on November 19, 2002 in response to a worker petition filed on behalf of workers at FCI USA, Inc., Communications, Data, and Consumer Division (CDC), Fiber Optics Group, a member of the Areva Group, Etters, Pennsylvania.

The Department issued negative determinations applicable to the petitioning group of workers on September 20, 2002 (TA-W-41,571). No new information or change in circumstances is evident which would result in a reversal of the Department's previous determinations. Consequently, further investigation would serve no purpose, and the investigation has been terminated.

Signed at Washington, DC, this 25th day of November 2002.
Linda G. Poole,
Certifying Officer, Division of Trade Adjustment Assistance.

[FR Doc. 02-31290 Filed 12-11-02; 8:45 am]

BILLING CODE 4510-30-P